FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011695-003.

Title: CMA CGM/Norasia Reciprocal Space Charter, Sailing and Cooperative Working Agreement.

Parties: Norasia Container Lines Limited CMA CGM, S.A.

Synopsis: The amendment revises the number and size of the vessels utilized, amends the amount of space exchanged, changes the allocation of slots between the parties, clarifies the legal authority for claims and disputes, changes one party's agent in regard to this agreement and makes changes in the procedures for the termination of the agreement.

Agreement No.: 201062-001.

Title: Philadelphia-Penn City Lease and Operating Agreement.

Parties: Philadelphia Regional Port Authority.

Penn City Investments, Inc.

Synopsis: The agreement amendment adjusts the compensation due under the lease. The agreement continues to run through June 20, 2003.

By Order of the Federal Maritime Commission.
Dated: November 16, 2001.
Bryant L. VanBrakle,
Secretary.

[FR Doc. 01-29134 Filed 11-20-01; 8:45 am]

BILLING CODE 6730-01-P